DEPARTMENT OF AGRICULTURE

Natural Resources Conservation Service

Review of USDA Natural Resources Conservation Service National Conservation Practice Standards

AGENCY: Natural Resources Conservation Service (NRCS), USDA.

ACTION: Notice and request for comment.

SUMMARY: The Agriculture Improvement Act of 2018 (2018 Farm Bill) amended the Food Security Act of 1985, to require an expedited review of conservation practice standards, including engineering design specifications, that were in effect on December 19, 2018. NRCS will evaluate opportunities to increase flexibility in the conservation practice standards in a manner that ensures equivalent natural resource benefits. This notice announces that NRCS will be reviewing the national conservation practice standards in the National Handbook of Conservation Practices and is requesting comments from the public about how to improve the conservation practice standards.

DATES: We will consider comments that we received by April 25, 2019.

ADDRESSES: We invite you to submit comments on this notice. In your comments, include the volume, date, and page number of this issue of the Federal Register. You may submit your comments by the following method:

• Federal eRulemaking Portal website: go to http://www.regulations.gov and search for docket ID NRCS-2019-0003. Follow the online instruction for submitting comments electronically.

All written comments received will be publicly available on www.regulations.gov.

Electronic copies of the national conservation practice standards are available at http://www.nrcs.usda.gov/wps/portal/nrcs/detailfull/national/technical/cp/ncps/?cid=nrcs143_026849.

FOR FURTHER INFORMATION CONTACT: For specific questions related to this notice contact Bill Reck; phone: (202) 720-4485; or email: bill.reck@wdc.usda.gov.

SUPPLEMENTARY INFORMATION: NRCS provides technical assistance to clients through the conservation planning process. The planning process involves:

(1) Determining client goals and resource concerns (conservation needs);

(2) Developing treatment options;

(3) Recording client decisions;

(4) Implementing selected conservation treatment(s) through the application of conservation practices; and

(5) Evaluating and adaptive management of the conservation treatment.

The conservation practice standards contain information on why and where the practice is to be applied and specifies the minimum technical criteria that must be met during the application of that practice in order for it to achieve its intended purposes. Conservation practices are designed to address the treatment of natural resource concerns. NRCS conservation practice standards are based on sound science and include scientifically accepted and demonstrated technologies. Conservation practices that have not been adequately demonstrated may be eligible for conservation innovation grants or may be implemented as interim conservation practices to gain needed field scale demonstration and establish and document natural resource benefits.

Section 2502 of the 2018 Farm Bill (Pub. L. 115-334) amends section 1242(h) of the Food Security Act of 1985 (16 U.S.C. 3842(h)), to require expedited revision of conservation practice standards by USDA. The review is for the conservation practice standards, including engineering design specifications, that were in effect on December 19, 2018. In keeping with the review requirement, NRCS will:

• Evaluate opportunities to increase flexibility in the conservation practice standards in a manner that ensures equivalent natural resource benefits;

• Provide the optimal balance between meeting site-specific conservation needs and minimizes risks of design failure and associated costs of construction and installation; and

• Ensure, to the maximum extent practicable, the completeness and relevance of the standards to local agricultural, forestry, and natural resource needs, including specialty crops, native and managed pollinators, bioenergy crop production, forestry, and such other needs as are determined by NRCS.

To obtain the widest possible input and to ensure the revision of the standards fully meets the intent and spirit of the expedited conservation practice review requirements, NRCS is requesting comments from the public on its conservation practice standards through April 25, 2019. The specific content of the standards can be found online at: http://www.nrcs.usda.gov/wps/portal/nrcs/detailfull/national/technical/cp/ncps/?cid=nrcs143_026849.

This notice announces that NRCS will be reviewing the national conservation practice standards in the National Handbook of Conservation Practices and is requesting comments from the public about how to improve the conservation practice standards. NRCS specifically requests comments that include peer reviewed scientific literature references or other supporting scientific data, if available, for recommended changes or additions to standards.

Further information on NRCS national conservation practice standards can be found at: https://www.nrcs.usda.gov/wps/portal/nrcs/main/national/technical/cp/ncps/. Further information on Conservation Innovation Grants can be found at: https://www.nrcs.usda.gov/wps/portal/nrcs/main/national/programs/financial/cig/.

Kevin Norton,
Acting Associate Chief, Natural Resources Conservation Service.

[FR Doc. 2019-04290 Filed 3-8-19; 8:45 am]

BILLING CODE 3410-16-P